FEDERAL ELECTION COMMISSION

[Notice 2001-11]

Filing Dates for the Arkansas Special Election in the 3rd Congressional District

AGENCY: Federal Election Commission.

ACTION: Notice of filing dates for special election.

SUMMARY: Arkansas has scheduled special elections to fill the U.S. House of Representatives seat in the Third Congressional District vacated by Congressman Asa Hutchinson. There are three possible special elections, but only two may be necessary.

• Primary Election: September 25, 2001.

• Possible Runoff Election: October 16, 2001. In the event that one candidate does not achieve more than 50% of the vote in his/her party's Special Primary Election, the top two vote-getters will participate in a Special Runoff Election.

• General Election: November 20, 2001.

FOR FURTHER INFORMATION CONTACT: Mr. Gregory J. Scott, Information Division, 999 E Street, NW., Washington, DC 20463; Telephone: (202) 694-1100; Toll Free (800) 424-9530.

SUPPLEMENTARY INFORMATION: Principal Campaign Committees

Special Primary Only

All principal campaign committees of candidates only participating in the Arkansas Special Primary shall file a 12-day Pre-Primary Report on September 13, 2001. (See chart below for the closing date for the report.)

Special Primary and General Without Runoff

If only two elections are held, all principal campaign committees of candidates participating in the Arkansas Special Primary and Special General Elections shall file a 12-day Pre-Primary Report on September 13, 2001; a Pre-General Report on November 8, 2001; and a Post-General Report on December 20, 2001. (See chart below for the closing date for each report.)

Special Primary and Runoff Elections

All principal campaign committees of candidates only participating in the Arkansas Special Primary and Special Runoff Elections shall file a 12-day Pre-Primary Report on September 13, 2001; and a Pre-Runoff Report on October 4, 2001. (See chart below for the closing date for each report.)

Special Primary, Runoff and General Elections

All principal campaign committees of candidates participating in the Arkansas Special Primary, Special Runoff and Special General Elections shall file a 12-day Pre-Primary Report on September 13, 2001; a Pre-Runoff Report on October 4, 2001; a Pre-General Report on November 8, 2001; and a Post-General Report on December 20, 2001. (See chart below for the closing date for each report.)

Unauthorized Committees (PACs and Party Committees)

Political committees that file on a semiannual basis during 2001 are subject to special election reporting if they make previously undisclosed contributions or expenditures in connection with the Arkansas Special Primary, Runoff or General Elections by the close of books for the applicable report(s). Consult the chart below that corresponds to the committee's situation for close of books and filing date information.

Committees filing monthly that support candidates in the Arkansas Special Primary, Special Runoff or Special General Elections should continue to file according to the non-election year monthly reporting schedule.

Calendar of Reporting Dates for Arkansas Special Elections
Report | Close of Books¹ | Reg./Cert. Mailing Date² | Filing Date
Committees involved in only the special primary (09/25/01) must file:
Pre-Primary | 09/05/01 | 09/10/01 | 09/13/01
Year-End | 12/31/01 | 01/31/02 | 01/31/02
If only two elections are held, committees involved in the special primary (09/25/01) and the special general (11/20/01) must file:
Pre-Primary | 09/05/01 | 09/10/01 | 09/13/01
Pre-General | 10/31/01 | 11/05/01 | 11/08/01
Post-General | 12/10/01 | 12/20/01 | 12/20/01
Year-End | 12/31/01 | 01/31/02 | 01/31/02
If three elections are held, committees involved in only the special primary (09/25/01) and special runoff (10/16/01) must file:
Pre-Primary | 09/05/01 | 09/10/01 | 09/13/01
Pre-Runoff | 09/26/01 | 10/01/01 | 10/04/01
Year-End | 12/31/01 | 01/31/02 | 01/31/02
Committees involved in the special primary (09/25/01), special runoff (10/16/01) and the special general (11/20/01) must file:
Pre-Primary | 09/05/01 | 09/10/01 | 09/13/01
Pre-Runoff | 09/26/01 | 10/01/01 | 10/04/01
Pre-General | 10/31/01 | 11/05/01 | 11/08/01
Post-General | 12/10/01 | 12/20/01 | 12/20/01
Year-End | 12/31/01 | 01/31/02 | 01/31/02
Committees involved in only the special runoff (10/16/01) must file:
Pre-Runoff | 09/26/01 | 10/01/01 | 10/04/01
Year-End | 12/31/01 | 01/31/02 | 01/31/02
Committees involved in only the special general (11/20/01) must file:
Pre-General | 10/31/01 | 11/05/01 | 11/08/01
Post-General | 12/10/01 | 12/20/01 | 12/20/01
Year-End | 12/31/01 | 01/31/02 | 01/31/02
¹ The period begins with the close of books of the last report filed by the committee. If the committee has filed no previous reports, the period begins with the date of the committee's first activity.
² Reports sent registered or certified mail must be postmarked by the mailing date; otherwise, they must be received by the filing date.

Dated: August 16, 2001.
Danny L. McDonald,
Chairman, Federal Election Commission.

[FR Doc. 01-21012 Filed 8-20-01; 8:45 am]

BILLING CODE 6715-01-P